DEPARTMENT OF ENERGY

Federal Energy Regulatory Commission

[Docket No. ER00-1259-000, et al.]

Louisiana Generating LLC., et al.; Electric Rate and Corporate Regulation Filings

March 8, 2000.

Take notice that the following filings have been made with the Commission:

1. Louisiana Generating LLC, Cajun Electric Power Cooperative, Inc., Louisiana Generating LLC

[Docket Nos. ER00-1259-000, EL00-38-000 and EC00-48-000]

Take notice that on March 3, 2000, Louisiana Generating LLC (Generating) filed a response to the requests for clarification filed by Southwestern Electric Power Company (SWEPCO) in the above-referenced proceedings.

Comment date: March 20, 2000, in accordance with Standard paragraph E at the end of this notice.

2. Northern States Power Company (Minnesota) and Northern States Power Company (Wisconsin)

[Docket No. EC00-60-000]

Take notice that on March 1, 2000, Northern States Power Company (Minnesota) and Northern States Power (Wisconsin) (jointly NSP) tendered for filing pursuant to Section 203 of the Federal Power Act (the FPA) and Part 33 of the Commission's Regulations, an application for the transfer of operational control over substantial portions of the jurisdictional transmission facilities of NSP to the Midwest Independent Transmission System Operator, Inc. (Midwest ISO or MISO) to be effective on the Transfer Date as defined in the Midwest ISO Agreement.

NSP states it has served a copy of the filing on the utility commissions in Minnesota, Michigan, North Dakota, South Dakota and Wisconsin.

Comment date: March 31, 2000, in accordance with Standard paragraph E at the end of this notice.

3. Sithe Northeast Generating Company, Inc., Sithe Maryland Holdings LLC, Sithe New Jersey Holdings LLC, Sithe Pennsylvania Holdings LLC, Sithe Power Marketing, L.P., Reliant Energy Power Generation, Inc.

[Docket No. EC00-61-000]

Take notice that on March 1, 2000, Sithe Maryland Holdings LLC, Sithe New Jersey Holdings LLC, Sithe Pennsylvania Holdings LLC (collectively, the Sithe PJM Companies), Sithe Power Marketing, L.P., their corporate parent, Sithe Northeast Generating Company, Inc., and Reliant Energy Power Generation, Inc. (collectively, the Applicants) submitted for filing, pursuant to Section 203 of the Federal Power Act, and Part 33 of the Commission's regulations, an application seeking authorization from the Commission for assignment of interests in certain wholesale power agreements from Sithe Power Marketing to the Sithe PJM Companies and the sale of the equity interests in the Sithe PJM Companies to Reliant Energy Power Generation, Inc., and the transfer of control over associated jurisdictional facilities of the Sithe PJM Companies as part of the transaction.

Comment date: March 31, 2000, in accordance with Standard paragraph E at the end of this notice.

4. Statoil Energy Trading, Inc., Statoil Energy Services, Inc. and Amerada Hess Corporation

[Docket No. EC00-62-000]

Take notice that on March 1, 2000, Statoil Energy Trading, Inc. (SETI), Statoil Energy Services, Inc. (SESI) and Amerada Hess Corporation (AHC) filed an application under Section 203 of the Federal Power Act for approval of the transfer from SETI to SESI of certain wholesale electric power sales agreements currently held by SETI, and the transfer of control over the jurisdictional facilities of SESI to AHC through AHC's acquisition of SESI's common stock.

Comment date: March 31, 2000, in accordance with Standard paragraph E at the end of this notice.

5. Sierra Pacific Power Company, Nevada Power Company, Portland General Electric Company

[Docket No. EC00-63-000]

Take notice that on March 3, 2000, Sierra Pacific Power Company (Sierra), Nevada Power Company (Nevada Power), and Portland General Electric Company (PGE) tendered for filing pursuant to Section 203 of the Federal Power Act a Joint Application for Authorization and Approval of Acquisition and Indirect Merger. This Application requests authorization and approval of (i) the acquisition of PGE by Sierra Pacific Resources (SPR), the parent of Sierra and Nevada Power, and (ii) the indirect merger of the jurisdictional facilties of PGE with those of Sierra and Nevada Power (collectively, the Transaction).

Comment date: March 31, 2000, in accordance with Standard paragraph E at the end of this notice.

6. Duke Energy Vermillion, LLC.

[Docket No. EG00-108-000]

Take notice that on March 2, 2000, Duke Energy Vermillion, LLC (Duke Vermillion) filed an application with the Federal Energy Regulatory Commission (the Commission) for determination of exempt wholesale generator status pursuant to Section 32 of the Public Utility Holding Company Act of 1935, as amended, and Part 365 of the Commission's Regulations.

Duke Vermillion is a Delaware limited liability company that will be engaged directly and exclusively in the business of owning and operating all or part of one or more eligible facilities to be located in Cayuga, Vermillion County, Indiana. The eligible facilities will consist of an approximately 640 MW gas-fired single cycle electric generation plant and related interconnection facilities. The output of the eligible facilities will be sold at wholesale.

Comment date: March 29, 2000, in accordance with Standard paragraph E at the end of this notice.

7. Duke Energy Madison, LLC

[Docket No. EG00-109-000]

Take notice that on March 2, 2000, Duke Energy Madison, LLC (Duke Madison) filed an application with the Federal Energy Regulatory Commission (the Commission) for determination of exempt wholesale generator status pursuant to Section 32 of the Public Utility Holding Company Act of 1935, as amended, and Part 365 of the Commission's Regulations.

Duke Madison is a Delaware limited liability company that will be engaged directly and exclusively in the business of owning and operating all or part of one or more eligible facilities to be located in Madison Township, Butler County, Ohio. The eligible facilities will consist of an approximately 640 MW gas-fired single cycle electric generation plant and related interconnection facilities. The output of the eligible facilities will be sold at wholesale.

Comment date: March 29, 2000, in accordance with Standard paragraph E at the end of this notice.

8. Liberty Generating Company, LLC

[Docket No. EG00-110-000]

Take notice that on March 3, 2000, Liberty Generating Company, LLC (Liberty), a limited liability company with its principal place of business at 7500 Old Georgetown Road, Bethesda, Maryland 20814, filed with the Federal Energy Regulatory Commission (Commission), an application for determination of exempt wholesale generator status pursuant to Part 365 of the Commission's regulations.

Liberty proposes to construct, own or lease and operate a nominally rated 1090 MW natural gas-fired, combined cycle power plant in the city of Linden, Union County, New Jersey. The proposed power plant is expected to commence commercial operation in the second quarter of 2003. All output from the plant will be sold by Liberty exclusively at wholesale.

Comment date: March 29, 2000, in accordance with Standard paragraph E at the end of this notice.

9. South Eastern Generating Corporation

[Docket No. EG00-111-000]

Take notice that on March 3, 2000, South Eastern Generating Corporation (Applicant), 1585 Broadway, New York, NY 10036-8293, filed with the Federal Energy Regulatory Commission (Commission) an application for determination of exempt wholesale generator status pursuant to Part 365 of the Commission's regulations.

Applicant, a Delaware corporation, intends to own and/or operate an eligible facility in Georgia. The facility will consist of a 100-MW combustion turbine generating unit, as well as interconnecting transmission facilities necessary to effect sales of electric energy at wholesale.

Comment date: March 29, 2000, in accordance with Standard paragraph E at the end of this notice.

10. XENERGY, Inc.

[Docket No. ER97-2517-007]

Take notice that on March 3, 2000, XENERGY, Inc. (XENERGY), tendered for filing a notice of status change with the Commission in connection with the pending merger between Energy East Corporation and Central Maine Power Company (CMP). The filing includes an amendment to XENERGY's power sales tariff and code of conduct to incorporate CMP as an affiliate.

Comment date: March 24, 2000, in accordance with Standard Paragraph E at the end of this notice.

11. NYSEG Solutions, Inc.

[Docket No. ER99-220-005]

Take notice that on March 3, 2000, NYSEG Solutions, Inc., tendered for filing a notice of status change with the Commission in connection with the pending merger between Energy East Corporation and Central Maine Power Company (CMP). The filing includes an amendment to NYSEG Solutions, Inc.'s power sales tariff and code of conduct to incorporate CMP as an affiliate.

Comment date: March 24, 2000, in accordance with Standard Paragraph E at the end of this notice.

12. New York State Electric & Gas Corporation

[Docket No. ER99-221-002]

Take notice that on March 3, 2000, New York State Electric & Gas Corporation (NYSEG), tendered for filing a notice of status change with the Commission in connection with the pending merger between Energy East Corporation and Central Maine Power Company (CMP). The filing includes an amendment to NYSEG's power sales tariff and code of conduct to incorporate CMP as an affiliate.

Comment date: March 24, 2000, in accordance with Standard Paragraph E at the end of this notice.

13. Carthage Energy, LLC

[Docket No. ER99-2541-001]

Take notice that on March 3, 2000, Carthage Energy, LLC (Carthage), tendered for filing a notice of status change with the Commission in connection with the pending merger between Energy East Corporation and Central Maine Power Company (“CMP”). The filing includes an amendment to Carthage's power sales tariff and code of conduct to incorporate CMP as an affiliate.

Comment date: March 24, 2000, in accordance with Standard Paragraph E at the end of this notice.

14. South Glens Falls LLC

[Docket No. ER00-262-001]

Take notice that on March 3, 2000, South Glens Falls LLC (South Glens Falls), tendered for filing a notice of status change with the Commission in connection with the pending merger between Energy East Corporation and Central Maine Power Company (CMP). The filing includes an amendment to South Glens Falls' power sales tariff and code of conduct to incorporate CMP as an affiliate.

Comment date: March 24, 2000, in accordance with Standard Paragraph E at the end of this notice.

15. Allegheny Energy Service Corporation, on behalf of Monongahela Power Company, The Potomac Edison Company, and West Penn Power Company (Allegheny Power)

[Docket No. ER00-1788-000]

Take notice that on March 2, 2000, Allegheny Energy Service Corporation on behalf of Monongahela Power Company, The Potomac Edison Company and West Penn Power Company (Allegheny Power), tendered for filing a Notice of Cancellation for Engelhard Power Marketing, Inc., a customer under Allegheny Power's Open Access Transmission Service Tariff, Standard Generation Service Rate Schedule and Point-to-Point Transmission Service Tariff.

Copies of the filing have been provided to the Public Utilities Commission of Ohio, the Pennsylvania Public Utility Commission, the Maryland Public Service Commission, the Virginia State Corporation Commission, and the West Virginia Public Service Commission.

Comment date: March 23, 2000, in accordance with Standard Paragraph E at the end of this notice.

16. Wisconsin Energy Corporation

[Docket No. ER00-1789-000]

Take notice that on March 2, 2000, Wisconsin Electric Power Company (Wisconsin Electric), tendered for filing revisions to its FERC Rate Schedule Nos. 81 and 82. The agreements are being modified to bring them into compliance with the Commission's Order No. 888. Service contemplated by those agreements will be conducted pursuant to Wisconsin Energy Corporation Operating Companies' FERC Electric Tariff, Original Volume No. 1.

Wisconsin Electric respectfully requests an effective date coincident with the commercial service date of the Central Upper Peninsula Transmission Project. The CUPT Project is expected to be completed in late March. Wisconsin Electric will inform the Commission of the exact in-service date. Wisconsin Electric is authorized to state that Edison Sault Electric Company joins in the requested effective date.

Copies of the filing have been served on Upper Peninsula Power Company, Edison Sault Electric Company, Cloverland Electric Cooperative, the Michigan Public Service Commission, and the Public Service Commission of Wisconsin.

Comment date: March 23, 2000, in accordance with Standard Paragraph E at the end of this notice.

17. Idaho Power Company

[Docket No. ER00-1790-000]

Take notice that on March 2, 2000, Idaho Power Company (IPC), tendered for filing with the Federal Energy Regulatory Commission Service Agreements for Firm Point-to-Point Transmission Service between Idaho Power Company and Coral Power, L.L.C.

Comment date: March 23, 2000, in accordance with Standard Paragraph E at the end of this notice.

18. Wisconsin Public Service Corporation

[Docket No. ER00-1791-000]

Take notice that on March 3, 2000, Wisconsin Public Service Corporation (WPSC), tendered for filing an executed Service Agreement with El Paso Energy Merchant, L.P., providing for transmission service under FERC Electric Tariff, Volume No. 1.

Comment date: March 24, 2000, in accordance with Standard Paragraph E at the end of this notice.

19. Liberty Generating Company, LLC

[Docket No. ER00-1792-000]

Take notice that on March 3, 2000, Liberty Generating Company, LLC (Liberty), submitted for filing, pursuant to Section 205 of the Federal Power Act, and Part 35 of the Commission's Regulations, a Petition for authorization to make sales of capacity, energy, and certain Ancillary Services at market-based rates and to reassign transmission capacity. Liberty proposes to construct a nominally rated 1090 MW natural gas-fired, combined cycle power plant in the City of Linden, Union County, New Jersey.

Comment date: March 24, 2000, in accordance with Standard Paragraph E at the end of this notice.

20. New York State Electric & Gas Corporation

[Docket No. ER00-1793-000]

Take notice that on March 3, 2000 New York State Electric & Gas Corporation (NYSEG), tendered for filing pursuant to Part 35 of the Federal Energy Regulatory Commission's Rules of Practice and Procedure, 18 CFR 35, a service agreement (the Service Agreement) under which NYSEG is providing capacity and/or energy to 3M Company in accordance with NYSEG's FERC Electric Tariff, Original Volume No. 3.

NYSEG requests an effective date for the Service Agreement of November 1, 1999.

NYSEG has served copies of the filing upon the New York State Public Service Commission and 3M.

Comment date: March 24, 2000, in accordance with Standard Paragraph E at the end of this notice.

21. PJM Interconnection, L.L.C.

[Docket No. ER00-1794-000]

Take notice that on March 3, 2000, PJM Interconnection, L.L.C. (PJM), tendered for filing revised pages to the PJM Open Access Transmission Tariff to reflect new PJM Border rates for point-to-point transmission service and Non-Zone Network Load rates for Network Integration Service.

PJM requests an effective date of June 1, 2000.

Copies of this filing were served upon all PJM Members and the state electric regulatory commissions in the PJM Control Area.

Comment date: March 24, 2000, in accordance with Standard Paragraph E at the end of this notice.

22. Indianapolis Power & Light Company

[Docket No. ER00-1795-000]

Take notice that on March 3, 2000, Indianapolis Power & Light Company filed an Interconnection, Operation and Maintenance Agreement between West Fork Land Development Company, L.L.C., and Indianapolis Power & Light Company in the above-captioned docket.

Comment date: March 24, 2000, in accordance with Standard Paragraph E at the end of this notice.

23. Roswell Energy, Inc.

[Docket No. ER00-1796-000]

Take notice that on March 3, 2000, Roswell Energy, Inc. (Roswell), petitioned the Commission for acceptance of Roswell Rate Schedule FERC No. 1; the granting of certain blanket approvals, including the authority to sell electricity at market-based rates; and the waiver of certain Commission Regulations.

Roswell intends to engage in wholesale electric power and energy purchases and sales as a marketer. Roswell is not in the business of generating or transmitting electric power. Roswell is neither an affiliate nor owns or is associated with any affiliate.

Comment date: March 24, 2000, in accordance with Standard Paragraph E at the end of this notice.

24. Consumers Energy Company

[Docket No. ER00-1798-000]

Take notice that on March 3, 2000, Consumers Energy Company (Consumers), tendered for filing an executed service agreement for Firm Point-to-Point Transmission Service to the Commonwealth Edison Company pursuant to Consumers' Open Access Transmission Service Tariff filed on July 9, 1996.

The agreement has an effective date of February 21, 2000.

Copies of the filed agreements were served upon the Michigan Public Service Commission and the transmission customer.

Comment date: March 24, 2000, in accordance with Standard Paragraph E at the end of this notice.

25. Northeast Utilities Service Company

[Docket No. ER00-1799-000]

Take notice that on March 3, 2000, Northeast Utilities Service Company (NUSCO), tendered for filing a Service Agreement with Entergy Power Marketing Corporation (EPMC) under the NU System Companies' Sale for Resale Tariff No. 7.

NUSCO requests that the Service Agreement become effective February 7, 2000.

NUSCO states that a copy of this filing has been mailed to EPMC.

Comment date: March 24, 2000, in accordance with Standard Paragraph E at the end of this notice.

26. Wisconsin Public Service Corporation Docket No.

[Docket No. ER00-1800-000]

Take notice that on March 3, 2000, Wisconsin Public Service Corporation (WPSC), tendered for filing an executed Service Agreement with El Paso Energy Merchant, L.P., providing for transmission service under FERC Electric Tariff, Volume No. 1.

Comment date: March 24, 2000, in accordance with Standard Paragraph E at the end of this notice.

27. Sierra Pacific Power Company, Nevada Power Company, Portland General Electric Company

[Docket No.ER00-1801-00]

Take notice that on March 3, 2000, Sierra Pacific Power Company (Sierra), Nevada Power Company (Nevada Power), and Portland General Electric Company (PGE) (collectively, the Applicants), tendered for filing pursuant to Section 205 of the Federal Power Act a Joint Open Access Transmission Tariff (the Joint OATT). The Applicants' filing of the Joint OATT is in connection with the proposed acquisition of Portland General Electric Company by Sierra Pacific Resources, the holding company parent of Sierra Pacific Power Company and Nevada Power Company (the Transaction). The Joint OATT will apply to the transmission service provided by the Applicants subsequent to the Transaction.

28. Rochester Gas and Electric Corporation

[Docket No. ER00-1802-000]

Take notice that on March 2, 2000, Rochester Gas and Electric Corporation (RG&E), tendered for filing an Application in the above-referenced proceeding docket requesting that the Commission extend the authorization previously granted to RG&E to make sales to an affiliate in conjunction with the Retail Access Program and the Retail Access Pilot Program.

Comment date: March 23, 2000, in accordance with Standard Paragraph E at the end of this notice.

29. South Eastern Generating Corporation

[Docket No. ER00-1803-000]

Take notice that on March 3, 2000, South Eastern Generating Corporation petitioned the Commission for acceptance of its Rate Schedule FERC No. 1, the granting of certain blanket approvals, including the authority to sell electricity at market-based rates, and the waiver of certain of the Commission's Regulations.

Comment date: March 24, 2000, in accordance with Standard Paragraph E at the end of this notice.

30. Panda Leesburg Power Partners, L.P.

[Docket No. ER00-1804-000]

Take notice that on March 3, 2000, Panda Leesburg Power Partners, L.P. (Panda Leesburg), tendered for filing pursuant to Rule 205, 18 CFR 385.205, a petition for waivers and blanket approvals under various regulations of the Commission and for an order accepting its FERC Electric Rate Schedule No. 1, and for the purpose of permitting Panda Leesburg to assign transmission capacity and to resell Firm Transmission Rights, to be effective no later than sixty (60) days from the date of its filing.

Panda Leesburg intends to engage in electric power and energy transactions as a marketer and a broker. In transactions where Panda Leesburg sells electric energy, it proposes to make such sales on rates, terms, and conditions to be mutually agreed to with the purchasing party. Neither Panda Leesburg nor any of its affiliates is in the business of transmitting or distributing electric power.

Rate Schedule No. 1 provides for the sale of energy and capacity at agreed prices.

Comment date: March 24, 2000, in accordance with Standard Paragraph E at the end of this notice.

31. Panda Midway Power Partners, L.P.

[Docket No. ER00-1805-000]

Take notice that on March 3, 2000, Panda Midway Power Partners, L.P. (Panda Midway), tendered for filing pursuant to Rule 205, 18 CFR 385.205, a petition for waivers and blanket approvals under various regulations of the Commission and for an order accepting its FERC Electric Rate Schedule No. 1, and for the purpose of permitting Panda Midway to assign transmission capacity and to resell Firm Transmission Rights, to be effective no later than sixty (60) days from the date of its filing.

Panda Midway intends to engage in electric power and energy transactions as a marketer and a broker. In transactions where Panda Midway sells electric energy, it proposes to make such sales on rates, terms, and conditions to be mutually agreed to with the purchasing party. Neither Panda Midway nor any of its affiliates is in the business of transmitting or distributing electric power.

Rate Schedule No. 1 provides for the sale of energy and capacity at agreed prices.

Comment date: March 24, 2000, in accordance with Standard Paragraph E at the end of this notice.

32. AmerGen Vermont, LLC

[Docket No. ER00-1806-000]

Take notice that on March 3, 2000, AmerGen Vermont, LLC (AmerGen), tendered for filing a power sales agreement for wholesale power sales transactions between AmerGen and PECO Energy Company.

Comment date: March 24, 2000, in accordance with Standard Paragraph E at the end of this notice.

33. Western Resources, Inc.

[Docket No. ER00-1813-000]

Take notice that on March 3, 2000, Western Resources, Inc. (Western), tendered for filing First Revised Sheet No. 1 superseding Original Sheet No. 1 of Western's FERC Rate Schedule No. 6, Market Based Power Sales Tariff. Western states that the purpose of the filing is to remove Kansas City Power & Light Company from the definition of “affiliate” contained in the Market Based Power Sales Tariff, in light of the termination of the companies' proposed merger.

Comment date: March 24, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-6447 Filed 3-15-00; 8:45 am]

BILLING CODE 6717-01-P